DEPARTMENT OF HOMELAND SECURITY

[Docket No. CISA-2021-0003]

Notice of Request for Revision of a Currently Approved Information Collection for the Chemical Facility Anti-Terrorism Standards (CFATS)

AGENCY: Cybersecurity and Infrastructure Security Agency, DHS.

ACTION: 30-Day notice and request for comments; revision of Information Collection Request: 1670-0014.

Authority: 6 U.S.C. 621-629.

SUMMARY: The Infrastructure Security Division (ISD) within the Cybersecurity and Infrastructure Security Agency (CISA) is issuing a 60-day notice and request for comments to revise Information Collection Request (ICR) 1670-0014. CISA will submit the ICR to the Office of Management and Budget (OMB) for review and clearance in accordance with the Paperwork Reduction Act of 1995. DHS previously published this information collection request (ICR), in the Federal Register, on Monday, March 23, 2021 at 86 FR 15490 for a 60-day public comment period. No comments was/were received by DHS. To access and review all documents related to this information collection, please visit the Federal eRulemaking Portal site at http://www.regulations.gov and enter Docket Number CISA-2021-0003 in the search box. The purpose of this notice is to allow an additional 30 days for public comments.

DATES: Comments are encouraged and will be accepted until August 23, 2021.

ADDRESSES: You may submit comments, identified by docket number CISA-2021-0003 through the Federal eRulemaking Portal available at http://www.regulations.gov. Follow the instructions for submitting comments.

Instructions: All comments received via https://www.regulations.gov will be posted to the public docket at https://www.regulations.gov, including any personal information provided.

Do not submit comments that include trade secrets, confidential commercial or financial information, Chemical-terrorism Vulnerability Information (CVI), Protected Critical Infrastructure Information (PCII), or Sensitive Security Information (SSI) directly to the public regulatory docket. Contact the individual listed in the FOR FURTHER INFORMATION CONTACT section below with questions about comments containing protected information. CISA will not place comments containing protected information in the public docket and will handle them in accordance with applicable safeguards and restrictions on access. Comments containing protected information will be held in a separate file to which the public does not have access and CISA will place a note in the public docket documenting receipt of the comment. If CISA receives a request to examine or copy this information, CISA will treat it as any other request under the Freedom of Information Act (FOIA), 5 U.S.C. 552, and the Department's FOIA regulation found in part 5 of Title 6 of the Code of Federal Regulations (CFR).

FOR FURTHER INFORMATION CONTACT: Lona Saccomando, 703-235-5263, CISARegulations@cisa.dhs.gov.

SUPPLEMENTARY INFORMATION: The CFATS Program identifies chemical facilities of interest and regulates the security of high-risk chemical facilities through a risk-based approach. The CFATS Program is authorized under the Protecting and Securing Chemical Facilities from Terrorist Attacks Act of 2014 ¹ or “CFATS Act of 2014”. CISA collects necessary information through 1670-0014 to implement CFATS.

¹ The Protecting and Securing Chemical Facilities from Terrorist Attacks Act of 2014 (also known as the CFATS Act of 2014, Pub. L. 113-254) codified the CFATS program into the Homeland Security Act of 2002. See 6 U.S.C. 621 et seq., as amended by Public Law 116-136, Sec. 16007 (2020).

CISA's Methodology in Estimating the Burden for the Request for Redetermination

This instrument collects information to support a facility's request for redetermination of high-risk which CISA is obligated to perform pursuant to the CFATS Act of 2014. The collection of information may be concurrent with a facility's submission of a Top-Screen pursuant to 6 CFR 27.210(d) or collected after CISA reviews a Top-Screen that reflects material modifications made by the facility. This instrument authorizes CISA to collect both the reason for the redetermination as well as supporting documentation.

CISA is proposing minor revisions to the instrument that reflect the passage of the Cybersecurity and Infrastructure Security Act of 2018, 6 U.S.C. 651-74, such as updating the Agency name to conform with the Agency's new designation as CISA, as well as a clearer description of the scope of the instrument. The scope of this instrument remains unchanged.

Number of Respondents

The current information collection estimated that 625 respondents would submit a request for a Request for Redetermination annually. Based on data collected between CY 2018-2020, 215 respondents, on average, submitted a Request for Redetermination annually. Because of the historical pattern of lower submissions over the past three years, CISA proposes to decrease the estimated number of respondents from 625 to 250 respondents. CISA will retain the number of responses per respondent of 1.0.

Estimated Time per Respondent

In the current information collection, the estimated time per respondent to prepare and submit a Request for Redetermination is 0.25 hours (15 minutes). CISA continues to believe this is a reasonable burden estimate for this instrument.

Annual Burden Hours

The annual burden hours for a Request for Redetermination is [0.25 hours × 250 respondents × 1 response per respondent], which equals 62.5 hours.

Total Capital/Startup Burden Cost

CISA provides access to CSAT free of charge and assumes that each respondent already has computer hardware and access to the internet for basic business needs. Therefore, there are no annualized capital or start-up costs incurred by chemical facilities of interest or high-risk chemical facilities for this information collection.

Total Recordkeeping Burden

There are no recordkeeping burden costs incurred by chemical facilities of interest or high-risk chemical facilities for this information collection.²

² The recordkeeping burden for facilities under CFATS is accounted for by CISA under the CSAT Information Collection No. 1670-0007.

Total Annual Burden Cost

CISA assumes that Site Security Officers (SSOs) are responsible for submitting a Request for Redetermination. For the purpose of this notice, CISA maintains this assumption.

Therefore, to estimate the total annual burden, CISA multiplied the annual burden of 62.5 hours by the average hourly wage rate of SSOs which is $85.82 per hour.³ Therefore, the total annual burden cost for the Request for Redetermination instrument is $5,364 (i.e., 62.5 total annual burden hours × $85.82 per hour).⁴

³ The above Average Hourly Wage Rate is the May 2019 Bureau of Labor Statistics average wage for “Management Occupations (Major Group (11-0000))” of $58.88 times the wage rate benefit multiplier of 1.4575 (to account for fringe benefits) equaling $85.82. The benefits multiplier is estimated by dividing total compensation of $38.26 by salaries and wages of $26.25, based on Employer Cost for Employee Compensation, September 2020 data, released December 17, 2020 (https://www.bls.gov/news.release/ecec.nr0.htm).

⁴ Throughout this analysis, CISA presents rounded hourly time burden estimates and hourly compensation rates to assist in reproducing the results. However, CISA's actual calculations use unrounded figures; as such, estimates calculated using the values presented in this analysis may not exactly match the reported results.

CISA's Methodology in Estimating the Burden for the Request for an Extension

This instrument collects information to request extensions for CFATS reporting requirements.

CISA is proposing minor revisions to the instrument that reflect the passage of the Cybersecurity and Infrastructure Security Act of 2018, 6 U.S.C. 651-74, such as updating the Agency name to conform with the Agency's new designation as CISA, as well as a clearer description of the scope of the instrument. The scope of this instrument remains unchanged.

Number of Respondents

The current information collection estimated that 730 respondents would submit a request for a Request for an Extension annually. Based on data collected between CY 2018-2020, 374 respondents, on average, submitted a Request for an Extension annually. In addition, there was also a slight increase in the number of times a respondent would request an extension. Because of the historical pattern of lower submissions over the past three years with a slight increase in the number of responses per respondent, CISA proposes to decrease the estimated number of respondents from 730 to 400 respondents and increase the number of responses per respondent from 1.00 to 1.25.

Estimated Time per Respondent

In the current information collection, the estimated time per respondent to prepare and submit a Request for an Extension is 0.083 hours (5 minutes). CISA continues to believe this is a reasonable burden for gathering and providing supporting documentation for this instrument.

Annual Burden Hours

The annual burden hours for the Request for an Extension is [0.083 hours × 400 respondents × 1.25 response per respondent], which equals 41.7 hours.

Total Capital/Startup Burden Cost

CISA provides access to CSAT free of charge and assumes that each respondent already has computer hardware and access to the internet for basic business needs. Therefore, there are no annualized capital or start-up costs incurred by chemical facilities of interest or high-risk chemical facilities for this information collection.

Total Recordkeeping Burden

There are no recordkeeping burden costs incurred by chemical facilities of interest or high-risk chemical facilities for this information collection.

Total Annual Burden Cost

CISA assumes that SSOs are responsible for submitting a Request for an Extension. For the purpose of this notice, CISA maintains this assumption.

Therefore, to estimate the total annual burden, CISA multiplied the annual burden of 41.7 hours by the average hourly wage rate of SSOs, which is $85.82 per hour. Therefore, the total annual burden cost for the Request for an Extension instrument is $3,576 (i.e., 41.7 total annual burden hours × $85.82 per hour).

Top-Screen Update

This instrument collects information about the reason a facility submits an updated Top-Screen (e.g., closure or sale of the facility).

CISA is proposing minor revisions to the instrument that reflect the passage of the Cybersecurity and Infrastructure Security Act of 2018, 6 U.S.C. 651-74, such as updating the Agency name to conform with the Agency's new designation as CISA, as well as a clearer description of the scope this instrument. The scope of this instrument remains unchanged.

Number of Respondents

The current information collection estimated that 1,250 respondents would submit a request for a Top-Screen Update annually. Based on data collected between CY 2018-2020, 2,353 respondents, on average, submitted a Top-Screen Update annually. Because of the historical pattern of higher submissions, CISA proposes to increase the estimated number of respondents from 1,250 to 2,500 respondents. CISA will retain the number of responses per respondent of 1.5.

Estimated Time per Respondent

In the current information collection, the estimated time per respondent to prepare and submit a Top-Screen Update is 0.083 hours (5 minutes). CISA continues to believe this is a reasonable burden per response for this instrument.

Annual Burden Hours

The annual burden hours for a Top-Screen Update is [0.083 hours × 2,500 respondents × 1.5 responses per respondent], which equals 312.5 hours.

Total Capital/Startup Burden Cost

CISA provides access to CSAT free of charge and assumes that each respondent already has computer hardware and access to the internet for basic business needs. Therefore, there are no annualized capital or start-up costs incurred by chemical facilities of interest or high-risk chemical facilities for this information collection.

Total Recordkeeping Burden

There are no recordkeeping burden costs incurred by chemical facilities of interest or high-risk chemical facilities for this information collection.

Total Annual Burden Cost

CISA assumes that SSOs are responsible for submitting a Top-Screen Update. For the purpose of this notice, CISA maintains this assumption.

Therefore, to estimate the total annual burden, CISA multiplied the annual burden of 312.5 hours by the average hourly wage rate of SSOs, which is $85.82 per hour. Therefore, the total annual burden cost for the Top-Screen Update instrument is $26,818 (i.e., 312.5 total annual burden hours × $85.82).

CISA's Methodology in Estimating the Burden for Compliance Assistance

This instrument collects information when a facility requests a consultation or seeks technical assistance about its CFATS regulatory requirements. This instrument also collects information to respond to potentially non-compliant facilities; verify material modifications during the redetermination process; or follow-up on security issues or results of a recent incident.

CISA is proposing minor revisions to the instrument that reflect the passage of the Cybersecurity and Infrastructure Security Act of 2018, 6 U.S.C. 651-74, such as updating the Agency name to conform with the Agency's new designation as CISA, as well as a clearer description of the scope instrument. The scope of this instrument remains unchanged.

Number of Respondents

The current information collection estimated that 455 respondents would submit a request for Compliance Assistance annually. Based on data collected between CY 2018-2020, 1,540 respondents, on average, submitted a request for Compliance Assistance annually. Because of the historical pattern of higher submissions, CISA proposes to increase the estimated number of respondents from 455 to 1,600 respondents. CISA previously estimated a response rate of 1.5 requests per respondent annually; however, based on the historical pattern of requests for Compliance Assistance, CISA proposes to decrease the number of responses per respondent to 1.0.

Estimated Time per Respondent

In the current information collection, the estimated time per respondent to prepare and submit a Request for Compliance Assistance is 0.083 hours (5 minutes). CISA continues to believe this is a reasonable burden per response for this instrument.

Annual Burden Hours

The annual burden hours for the Compliance Assistance instrument is [0.083 hours × 1,600 respondents × 1.0 responses per respondent], which equals 133.3 hours.

Total Capital/Startup Burden Cost

CISA assumes that each respondent already has computer hardware and access to the internet for basic business needs. Therefore, there are no annualized capital or start-up costs incurred by chemical facilities of interest or high-risk chemical facilities for this information collection.

Total Recordkeeping Burden

There are no recordkeeping burden costs incurred by chemical facilities of interest or high-risk chemical facilities for this information collection.

Total Annual Burden Cost

CISA assumes that SSOs are responsible for submitting a Compliance Assistance. For the purpose of this notice, CISA maintains this assumption.

Therefore, to estimate the total annual burden, CISA multiplied the annual burden of 133.3 hours by the average hourly wage rate of SSOs, which is $85.82 per hour. Therefore, the total annual burden cost for the Compliance Assistance instrument is $11,443 (i.e., 133.3 total annual burden hours × $85.82 per hour).

CISA's Methodology in Estimating the Burden for the Declaration of Reporting Status

This instrument collects information when a facility notifies CISA that it is not required to register in CSAT or submit a Top-Screen.

CISA is proposing minor revisions to the instrument that reflect the passage of the Cybersecurity and Infrastructure Security Act of 2018, 6 U.S.C. 651-74, such as updating the Agency name to conform with the Agency's new designation as CISA, as well as a clearer description of the scope instrument. The scope of this instrument remains unchanged.

Number of Respondents

The current information collection estimated that 480 respondents would submit a Declaration of Reporting Status annually. Based on data collected between CY 2018-2020, 20 respondents, on average, submitted a Declaration of Reporting Status annually. Because of the historical pattern of lower submissions, CISA proposes to decrease the estimated number of respondents from 480 to 100 respondents. CISA will retain the number of responses per respondent of 1.0.

Estimated Time per Respondent

In the current information collection, the estimated time per respondent to prepare and submit a Declaration of Reporting Status is 0.25 hours (15 minutes). CISA continues to believe this is a reasonable burden estimate for this instrument.

Annual Burden Hours

The annual burden hours for the Declaration of Reporting Status is [0.25 hours × 100 respondents × 1 response per respondent], which equals 25 hours.

Total Capital/Startup Burden Cost

CISA assumes that each respondent already has computer hardware and access to the internet for basic business needs. Therefore, there are no annualized capital or start-up costs incurred by chemical facilities of interest or high-risk chemical facilities for this information collection.

Total Recordkeeping Burden

There are no recordkeeping burden costs incurred by chemical facilities of interest or high-risk chemical facilities for this information collection.

Total Annual Burden Cost

CISA maintains the assumption found in the other instruments within this Information Collection that SSOs are responsible for submitting information to CISA. Thus, CISA assumes that an SSO will submit the Declaration of Reporting Status.

Therefore, to estimate the total annual burden, CISA multiplied the annual burden of 25 hours by the average hourly wage rate of SSOs, which is $85.82 per hour. Therefore, the total annual burden cost for the Declaration of Reporting Status instrument is $2,145 (i.e., 25 total annual burden hours × $85.82 per hour).

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology (e.g., permitting electronic submissions of responses).

Analysis

Agency: Department of Homeland Security, Cybersecurity and Infrastructure Security Agency.

Title: Chemical Facility Anti-Terrorism Standards (CFATS).

OMB Number: 1670-0014.

Instrument: Request for Redetermination.

Frequency: “On occasion” and “Other.”

Affected Public: Business or other for-profit.

Number of Respondents: 250 respondents.

Estimated Time per Respondent: 0.25 hours.

Total Burden Hours: 62.5 annual burden hours.

Total Burden Cost (capital/startup): $0.

Total Recordkeeping Burden: $0.

Total Burden Cost: $5,364.

Instrument: Request for an Extension.

Frequency: “On occasion” and “Other.”

Affected Public: Business or other for-profit.

Number of Respondents: 400 respondents.

Estimated Time per Respondent: 0.083 hours (5 minutes).

Total Burden Hours: 41.7 annual burden hours.

Total Burden Cost (capital/startup): $0.

Total Recordkeeping Burden: $0.

Total Burden Cost: $3,576.

Instrument: Top-Screen Update.

Frequency: “On occasion” and “Other.”

Affected Public: Business or other for-profit.

Number of Respondents: 2,500 respondents.

Estimated Time per Respondent: 0.083 hours (5 minutes).

Total Burden Hours: 312.5 hours.

Total Burden Cost (capital/startup): $0.

Total Recordkeeping Burden: $0.

Total Burden Cost: $26,818.

Instrument: Compliance Assistance.

Frequency: “On occasion” and “Other.”

Affected Public: Business or other for-profit.

Number of Respondents: 1,600 respondents.

Estimated Time per Respondent: 0.083 hours (5 minutes).

Total Burden Hours: 133.3 annual burden hours.

Total Burden Cost (capital/startup): $0.

Total Recordkeeping Burden: $0.

Total Burden Cost: $11,443.

Instrument: Declaration of Reporting Status.

Frequency: “On occasion” and “Other.”

Affected Public: Business or other for-profit.

Number of Respondents: 100 respondents.

Estimated Time per Respondent: 0.25 hours.

Total Burden Hours: 25 annual burden hours.

Total Burden Cost (capital/startup): $0.

Total Recordkeeping Burden: $0.

Total Burden Cost: $2,145.

Samuel Vazquez,
Acting Chief Information Officer, Department of Homeland Security, Cybersecurity and Infrastructure Security Agency.

[FR Doc. 2021-13106 Filed 6-22-21; 8:45 am]

BILLING CODE 9110-9P-P